DEPARTMENT OF ENERGY

Federal Energy Regulatory Commission

Combined Notice of Filings #1

December 14, 2009.

Take notice that the Commission received the following electric rate filings:

Docket Numbers: ER98-1643-014.

Applicants: Portland General Electric Company.

Description: Portland General Electric Company submits response to FERC 11/17/09 letter requesting additional information re PGE's 9/4/09 change in status filing.

Filed Date: 12/10/2009.

Accession Number: 20091210-4003.

Comment Date: 5 p.m. Eastern Time on Thursday, December 31, 2009.

Docket Numbers: ER04-1215-003.

Applicants: Anthracite Power and Light Company.

Description: Anthracite Power and Light Company submits Notice of Change in Status and Appendix A.

Filed Date: 12/10/2009.

Accession Number: 20091211-0193.

Comment Date: 5 p.m. Eastern Time on Thursday, December 31, 2009.

Docket Numbers: ER09-1397-001.

Applicants: Southwest Power Pool, Inc.

Description: Southwest Power Pool, Inc. submits an unexecuted, revised Service Agreement for Network Integration Transmission Service etc.

Filed Date: 12/10/2009.

Accession Number: 20091211-0180.

Comment Date: 5 p.m. Eastern Time on Thursday, December 31, 2009.

Docket Numbers: ER10-147-002.

Applicants: Great River Energy.

Description: Great River Energy et al. submits revised tariff sheets to correct a reference in tariff sheets previously filed.

Filed Date: 12/10/2009.

Accession Number: 20091211-0181.

Comment Date: 5 p.m. Eastern Time on Thursday, December 31, 2009.

Docket Numbers: ER10-37-001.

Applicants: Idaho Power Company.

Description: Idaho Power submits the Exchange Agreement with appreciate designations required by Section 35.9 of the Commission's Regulations.

Filed Date: 12/11/2009.

Accession Number: 20091211-0192.

Comment Date: 5 p.m. Eastern Time on Friday, January 01, 2010.

Docket Numbers: ER10-47-002.

Applicants: Geodyne Energy, LLC.

Description: Geodyne Energy, LLC submits an amended filing of the Petition for Acceptance of Rate Schedule etc.

Filed Date: 12/11/2009.

Accession Number: 20091211-0200.

Comment Date: 5 p.m. Eastern Time on Friday, January 01, 2010.

Docket Numbers: ER10-62-001.

Applicants: ISO New England Inc.

Description: ISO New England Inc. et al. submits a compliance filing which incorporates into the ISO's Financial Assurance Policy etc.

Filed Date: 12/10/2009.

Accession Number: 20091211-0055.

Comment Date: 5 p.m. Eastern Time on Thursday, December 31, 2009.

Docket Numbers: ER10-401-000.

Applicants: Asset and Energy Cost Saving Cooperative.

Description: Customized Energy Solutions, Ltd submits petition for acceptance of initial rate schedule, waivers and blanket authority of Asset and Energy Cost Saving Cooperative.

Filed Date: 12/11/2009.

Accession Number: 20091211-0196.

Comment Date: 5 p.m. Eastern Time on Friday, January 01, 2010.

Docket Numbers: ER10-402-000.

Applicants: FPL Energy Illinois Wind, LLC.

Description: FPL Energy Illinois Wind, LLC submits application for authorization to make market-based sales of energy, capacity and certain ancillary services under a market-based rate tariff.

Filed Date: 12/10/2009.

Accession Number: 20091211-0178.

Comment Date: 5 p.m. Eastern Time on Thursday, December 31, 2009.

Docket Numbers: ER10-407-000.

Applicants: Pacific Gas and Electric Company.

Description: Pacific Gas and Electric Company submits for filing and acceptance a Notice of Termination of the Service Agreement for Wholesale Distribution Service and a prior Interconnection Agreement etc.

Filed Date: 12/10/2009.

Accession Number: 20091211-0053.

Comment Date: 5 p.m. Eastern Time on Thursday, December 31, 2009.

Docket Numbers: ER10-408-000.

Applicants: American Electric Power Service Corporation.

Description: American Electric Power Texas North Company submits an executed Interconnection Agreement between American Electric Power Texas North Company and Electric Transmission, LLC.

Filed Date: 12/10/2009.

Accession Number: 20091211-0052.

Comment Date: 5 p.m. Eastern Time on Thursday, December 31, 2009.

Docket Numbers: ER10-411-000.

Applicants: Southwest Power Pool, Inc.

Description: Southwest Power Pool submits executed Large Generator Interconnection Agreement between SPP, Golden Spread Electric Cooperative, Inc., et al.

Filed Date: 12/10/2009.

Accession Number: 20091211-0179.

Comment Date: 5 p.m. Eastern Time on Thursday, December 31, 2009.

Docket Numbers: ER10-412-000.

Applicants: PJM Interconnection, LLC.

Description: PJM Interconnection, LLC submits notice of cancellation of Original Service Agreement No. 2273 between PJM, Calvert Cliffs 3 Nuclear Project, LLC, et al.

Filed Date: 12/11/2009.

Accession Number: 20091211-0199.

Comment Date: 5 p.m. Eastern Time on Friday, January 01, 2010.

Docket Numbers: ER10-413-000.

Applicants: California Independent System Operator Corporation.

Description: California Independent System Operator Corporation submits an informational filing to provide notice regarding the ISO's revised transmission access charges effective 2/27/08 through 3/31/09.

Filed Date: 12/11/2009.

Accession Number: 20091211-0198.

Comment Date: 5 p.m. Eastern Time on Friday, January 01, 2010.

Take notice that the Commission received the following electric securities filings:

Docket Numbers: ES10-14-000.

Applicants: Kansas Gas and Electric Company.

Description: Application of Kansas Gas and Electric Company under Section 204 for Short Term Debt Authority.

Filed Date: 12/14/2009.

Accession Number: 20091214-5004.

Comment Date: 5 p.m. Eastern Time on Monday, January 04, 2010.

Docket Numbers: ES10-15-000.

Applicants: Kansas Gas and Electric Company.

Description: Application of Kansas Gas and Electric Company under Section 204 for Short Term Guaranty and Pledge Authority.

Filed Date: 12/14/2009.

Accession Number: 20091214-5005.

Comment Date: 5 p.m. Eastern Time on Monday, January 04, 2010.

Docket Numbers: ES10-16-000.

Applicants: Westar Energy, Inc.

Description: Application of Westar Energy, Inc. under Section 204 for Short Term Debt Authority.

Filed Date: 12/14/2009.

Accession Number: 20091214-5006.

Comment Date: 5 p.m. Eastern Time on Monday, January 04, 2010.

Take notice that the Commission received the following open access transmission tariff filings:

Docket Numbers: OA08-52-007.

Applicants: New York Independent System Operator, Inc.

Description: New York Transmission Owners et al. submits revisions to Attachment Y of the NYISO's Open Access Transmission Tariff.

Filed Date: 12/11/2009.

Accession Number: 20091211-0195.

Comment Date: 5 p.m. Eastern Time on Friday, January 01, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-30217 Filed 12-18-09; 8:45 am]

BILLING CODE 6717-01-P